DEPARTMENT OF LABOR

Employment and Training Administration

Comment Request for Information Collection for the Workforce Investment Act (WIA) Management Information and Reporting System; Extension With Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

Currently, ETA is soliciting comments concerning the collection of data about the WIA Management Information and Reporting System (OMB Control No. 1205-0420, expiring 12/31/2012). This reporting system contains the individual record files on the WIA Adult, Dislocated Worker, Youth, and National Emergency Grant programs, the quarterly and annual reports on those programs (ETA 9090 and ETA 9091), as well as the customer satisfaction survey information reported by statutory measure States.

DATES: Written comments must be submitted to the office listed in the addresses section below on or before November 26, 2012.

ADDRESSES: Submit written comments to Karen Staha, Office of Policy Development and Research, Room N-5641, Employment and Training Administration, U.S. Department of Labor, 200 Constitution Avenue NW., Washington, DC 20210. Telephone number: 202-693-2917 (this is not a toll-free number). Individuals with hearing or speech impairments may access the telephone number above via TTY by calling the toll-free Federal Information Relay Service at 1-877-889-5627 (TTY/TDD). Fax: 202-693-2766. Email: Staha.Karen@dol.gov. A copy of the proposed information collection request (ICR) can be obtained by contacting the office listed above.

SUPPLEMENTARY INFORMATION:

I. Background

The accuracy, reliability, and comparability of program reports submitted by states using Federal funds are fundamental elements of good public administration, and are necessary tools for maintaining and demonstrating system integrity. The use of a standard set of data elements, definitions, and specifications at all levels of the workforce system helps improve the quality of performance information that is received by the Department. The common performance measures are an integral part of the Employment and Training Administration's (ETA) performance accountability system, and ETA will continue to collect from grantees the data on program activities, participants, and outcomes that are necessary for program management and to convey full and accurate information on the performance of workforce programs to policymakers and stakeholders.

There are three sets of changes that are being requested in the extension with revisions to the WIA Management Information and Reporting System. The first are changes to the Workforce Investment Act Standardized Record Data (WIASRD). The second are changes to the quarterly reports (ETA 9090), and the third are changes to the annual report (ETA 9091).

ETA is seeking to make two fundamental changes to the WIASRD. The first is to collect the information quarterly as opposed to annually. This quarterly collection was approved under 1205-0474; however, ETA is seeking to consolidate that collection into this collection as it contains the annual WIASRD. The aggregate American Recovery and Reinvestment Act monthly reports and the quarterly WIASRD collections were approved in 2009 and expired on 1/31/2012. The annual WIASRD collection will no longer be required as it is identical to the 4th quarter WIASRD file. Currently, ETA has separate approvals to collect the quarterly and annual WIASRD files even though the 4th quarter file is the same data file as the annual WIASRD. The second change to the WIASRD is the structure of the file. ETA is requesting permission to modify the WIASRD layout so as to make it completely compatible with the Workforce Investment Streamlined Reporting (WISPR) System individual record layout. The modified WIASRD layout will utilize the exact same variable definitions and data structures as the WISPR individual record layout rendering full scale WISPR implementation much more straightforward and less costly, should that occur at some point in the future. WISPR compatibility also has the advantage of collecting the veterans information necessary for reporting on priority of service for veterans, as well as for monitoring the performance of the Gold Card Initiative, TAP services, and post-9/11 veterans served under WIA.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension with revisions.

Title: WIA Management Information and Reporting System.

OMB Number: 1205-0420.

Affected Public: State governments.

Form(s): ETA-9090 and ETA-9091.

Total Annual Respondents: 53.

Annual Frequency: Quarterly.

Total Annual Responses: 530.

Average Time per Response: 959.5 hours.

Estimated Total Annual Burden Hours: 508,547.

Total Annual Burden Cost for Respondents: $0.

Comments submitted in response to this comment request will be summarized and/or included in the request for OMB approval of the ICR; they will also become a matter of public record.

Dated: Signed in Washington, DC, this 13th day of September 2012.
Jane Oates,
Assistant Secretary for Employment and Training.

[FR Doc. 2012-23602 Filed 9-25-12; 8:45 am]

BILLING CODE 4510-FN-P